DEPARTMENT OF LABOR

Employment and Training Administration

[TA-W-63,996; TA-W-63,996A]

MPC Computers, LLC, Including On-Leased Employees from Adecco Staffing, Nampa, ID

Including Employees in Support of MPC Computers, LLC, Nampa, Idaho Working at Various Locations in the Following States:

CALIFORNIA TA-W-63,996B

GEORGIA TA-W-63,996D

INDIANA TA-W-63,996F

LOUSIANA TA-W-63,996H

MARYLAND TA-W-63,996J

MISSISSIPPI TA-W-63,996L

OHIO TA-W-63,996N

PENNSYLVANIA TA-W-63,996P

VIRGINIA TA-W-63,996R

WISCONSIN TA-W-63,996T

FLORIDA TA-W-63,996C.

ILLINOIS TA-W-63,996E.

KENTUCKY TA-W-63,996G.

MASSACHUSETTS TA-W-63,996I.

MINNESOTA TA-W-63,996K.

NORTH CAROLINA TA-W-63,996M.

OREGON TA-W-63,996O.

TEXAS TA-W-63,996Q.

WASHINGTON TA-W-63,996S.

MPC Computers, LLC, North Sioux City, South Dakota, Including Employees in Support of MPC Computers, LLC, North Sioux City, South Dakota Working at Various Locations in the Following States:

ALABAMA T-W-63,996U

ARIZONA TA-W-63,996W

COLORADO TA-W-63,996Y

FLORIDA TA-W-63,996AA

INDIANA TA-W-63,996CC

MINNESOTA TA-W-63,996EE

MISSISSIPPI TA-W-63,996GG

NEBRASKA TA-W-63,996II

NEW YORK TA-W-63,996KK

PENNSYLVANIA TA-W-63,996MM

TENNESSEE TA-W-63,996OO

VIRGINIA TA-W-63,996QQ

ARKANSAS TA-W-63,996V.

CALIFORNIA TA-W-63,996X.

CONNECTICUT TA-W-63,996Z.

GEORGIA TA-W-63,996BB.

MARYLAND TA-W-63,996DD.

MISSOURI TA-W-63,996FF.

NORTH CAROLINA TA-W-63,996HH.

NEW MEXICO TA-W-63,996JJ.

OHIO TA-W-63,996LL.

SOUTH CAROLINA TA-W-63,996NN.

TEXAS TA-W-63,996PP.

WASHINGTON TA-W-63,996RR.

Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on September 16, 2008, applicable to workers of MPC Computers, LLC, including leased workers of Adecco Staffing, Nampa, Idaho and MPC Computers, LLC, North Sioux City, South Dakota. The notice was published in the Federal Register on October 3, 2008 (73 FR 57682).

At the request of a company official, the Department reviewed the certification for workers of the subject firm. The workers at the Nampa, Idaho location produce computers. The Sioux City, South Dakota workers provide support for that production.

New information shows that worker separations have occurred involving employees in support of and under the control of the Nampa, Idaho and the North Sioux City, South Dakota locations of MPC Computers, LLC working at various locations in the above mentioned states.

Based on these findings, the Department is amending this certification to include employees of the Nampa, Idaho and North Sioux City, South Dakota facilities of MPC Computers, LLC working out of above mentioned states.

The intent of the Department's certification is to include all workers of MPC Computers, LLC Nampa, Idaho and MPC Computers, LLC, North Sioux City, South Dakota who were adversely affected by a shift in production of computers to Mexico.

The amended notice applicable to TA-W-63,996 is hereby issued as follows:

“All workers of MPC Computers, LLC, including on-site leased workers from Adecco, Nampa, Idaho (TA-W-63,996) including employees in support of MPC Computers, LLC, Nampa, Idaho working at various locations in the following states: California (TA-W-63,996B), Florida (TA-W-63,996C), Georgia (TA-W-63,996D), Illinois (TA-W-63,996E), Indiana (TA-W-63,996F), Kentucky (TA-W-63,996G), Louisiana (TA-W-63,996H), Massachusetts (TA-W-63,996I), Maryland (TA-W-63,996J), Minnesota (TA-W-63,996K), Mississippi (TA-W-63,996L, North Carolina (TA-W-63,996M), Ohio (TA-W-63,996N) Oregon (TA-W-63,996O), Pennsylvania (TA-W-63,996P), Texas (TA-W-63,996Q), Virginia (TA-W-63,996R), Washington (TA-W-63,996S) and Wisconsin (TA-W-63,996T) and MPC Computers, LLC, North Sioux City, South Dakota (TA-W-63,996A), including employees in support of MPC Computers, LLC, North Sioux City, South Dakota working at various locations in the following states: Alabama (TA-W-63,996U), Arkansas (TA-W-63,996V), Arizona (TA-W-63,996W), California (TA-W-63,996X), Colorado (TA-W-63,996Y), Connecticut (TA-W-63,996Z), Florida (TA-W-63,996AA), Georgia (TA-W-63,996BB), Indiana (TA-W-63,996CC), Maryland (TA-W-63,996DD), Minnesota (TA-W-63,996EE, Missouri (TA-W-63,996FF), Mississippi (TA-W-63,996GG) North Carolina (TA-W-63,996HH), Nebraska Mexico (TA-W-63,996II), New Mexico (TA-W-63,996JJ), New York (TA-W-63,996KK), Ohio (TA-W-63,996LL), Pennsylvania (TA-W-63,996MM), South Carolina (TA-W-63,996NN), Tennessee (TA-W-63,996OO), Texas (TA-W-63,996PP), and Virginia (TA-W-63,996QQ) and Washington (TA-W-63,996RR) who became totally or partially separated from employment on or after September 4, 2007, through September 16, 2010, are eligible to apply for adjustment assistance under Section 223 of the Trade Act of 1974, and are also eligible to apply for alternative trade adjustment assistance under Section 246 of the Trade Act of 1974.”

Signed at Washington, DC this 20th day of March 2009.
Richard Church,
Certifying Officer, Division of Trade Adjustment Assistance.

[FR Doc. E9-7098 Filed 3-30-09; 8:45 am]

BILLING CODE 4510-FN-P